FEDERAL COMMUNICATIONS COMMISSION

Notice of Public Information Collection(s) Being Reviewed by the Federal Communications Commission, Comments Requested

February 8, 2008.

SUMMARY: The Federal Communications Commission, as part of its continuing effort to reduce paperwork burdens, invites the general public and other Federal agencies to take this opportunity to comment on the following information collection, as required by the Paperwork Reduction Act (PRA) of 1995, Public Law No. 104-13. An agency may not conduct or sponsor a collection of information unless it displays a currently valid control number. Pursuant to the PRA, no person shall be subject to any penalty for failing to comply with a collection of information that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before April 14, 2008. If you anticipate that you will be submitting comments, but find it difficult to do so within the period of time allowed by this notice, you should advise the contact listed below as soon as possible.

ADDRESSES: Interested parties may submit all PRA comments by email or U.S. mail. To submit your comments by email, send them to PRA@fcc.gov. To submit your comments by U.S. mail, mark them to the attention of Cathy Williams, Federal Communications Commission, Room 1-C823, 445 12th Street, SW., Washington, DC 20554.

FOR FURTHER INFORMATION CONTACT: For additional information about the information collection, send an email to PRA@fcc.gov or contact Cathy Williams at 202-418-2918.

SUPPLEMENTARY INFORMATION: OMB Number: 3060-0568.

Title: Commercial Leased Access.

Form Number: Not applicable.

Type of Review: Revision of a currently approved collection.

Respondents: Business or other for-profit entities, Not-for-profit institutions.

Number of Respondents: 4,001

Estimated Time per Response: 20 minutes to 40 hours.

Frequency of Response: Annual reporting requirement; On occasion reporting requirement; Recordkeeping requirement; Third party disclosure requirement.

Total Annual Burden: 76,819.

Total Annual Cost: $105,000.

Nature of Response: Required to obtain or retain benefits.

Confidentiality: No need for confidentiality required.

Privacy Impact Assessment: No impact(s).

Needs and Uses: On February 1, 2008, the Commission released a Report and Order and Further Notice of Proposed Rulemaking, In the Matter of Leased Commercial Access, MB Docket No. 07-42, FCC 07-42. In this Report and Order, we modify the leased access rules. With respect to leased access, we modify the leased access rate formula; adopt customer service obligations that require minimal standards and equal treatment of leased access programmers with other programmers; eliminate the requirement for an independent accountant to review leased access rates; and require annual reporting of leased access statistics. We also adopt expedited time frames for resolution of complaints and improve the discovery process.

The commercial leased access requirements are set forth in Section 612 of the Communications Act of 1934, as amended. The statute and corresponding leased access rules require a cable operator to set aside channel capacity for commercial use by unaffiliated video programmers. The Commission's rules implementing the statute require that cable operators with 36 or more channels calculate rates for leased access channels, maintain and provide on request information pertaining to leased access channels, and provide billing and collection services as required. The Commission may be required to resolve complaints about rates, terms and conditions of leased access. Changes to the rules increased the quantity of information maintained and provided, increase the information needed to calculate rates and require the filing of an annual report with the Commission on the status of leased access channels.

In addition, the Commission is consolidating information collection OMB Control Number 3060-0569 (Commercial leased access dispute resolution) into this collection OMB Control Number 3060-0568.

Federal Communications Commission.
Marlene H. Dortch,
Secretary.

[FR Doc. E8-2663 Filed 2-12-08; 8:45 am]

BILLING CODE 6712-01-P